DEPARTMENT OF AGRICULTURE

Rural Utilities Service

Southern Maryland Electric Cooperative; Notice of Intent To Hold a Public Scoping Meeting and Prepare an Environmental Assessment

AGENCY: Rural Utilities Service, USDA.

ACTION: Notice of intent to hold a public scoping meeting and prepare an Environmental Assessment.

SUMMARY: The Rural Utilities Service (RUS), an agency delivering the U.S. Department of Agriculture's Rural Development Utilities Programs, hereinafter referred to as Rural Development and/or Agency, intends to hold a public scoping meeting and prepare an Environmental Assessment (EA) in connection with potential impacts related to a proposal by Southern Maryland Electric Cooperative (SMECO), with headquarters in Hughesville, Maryland. The proposal consists of the construction of approximately 30 miles of 230 kilovolt (kV) transmission line, a new 230/69 kV switching station, a 230/69 kV switching station expansion, and a river crossing located in Calvert and St. Mary's Counties in Maryland.

DATES: USDA Rural Development will conduct a scoping meeting in an open house format, seeking the input of the public and other interested parties. The meeting will be held from 5 p.m. until 8 p.m., on September 11, 2008.

ADDRESSES: The September 11, 2008 meeting will be held at the SMECO office located at 901 Dares Beach Road in Prince Frederick, Maryland. The SMECO phone number is 888-440-3311.

An Electric Alternatives Evaluation and Macro Corridor Study Report will be available at the public scoping meeting, at USDA Rural Development's address provided in this notice, at their Web site: http://www.usda.gov/rus/water/ees/ea.htm, and at SMECO, 15035 Burnt Store Road, Hughesville, Maryland 20637.

FOR FURTHER INFORMATION CONTACT: Stephanie A. Strength, Environmental Protection Specialist, USDA Rural Development, Utilities Programs, Engineering and Environmental Staff, 1400 Independence Ave., SW., Stop 1571, Washington, DC 20250, or e-mail stephanie.strength@wdc.usda.gov.

SUPPLEMENTARY INFORMATION: Southern Maryland Electric Cooperative proposes to construct a 230 kV transmission line between the existing Holland Cliff Switching Station in Calvert County to the existing Hewitt Road Switching Station in St. Mary's County, Maryland. The proposal comprises five segments and includes (1) The installation of approximately 20 miles of new 230 kV single pole, double-circuit transmission line from the Holland Cliff switching station to a new switching station located in Southern Calvert; (2) the installation of the new Southern Calvert 230/69 kV switching station; (3) the installation of approximately 10 miles of new 230 kV single pole, double-circuit transmission line from the new Southern Calvert switching station to the existing Hewitt Road switching station; (4) the installation of approximately 2 miles of 230 kV underground transmission cable circuit across the lower Patuxent River; and (5) the expansion of the existing 230 kV ring bus at Hewitt Road switching station to accommodate the new 230 kV transmission line from Southern Calvert. Throughout the right-of-way, the existing 69 kV poles will be removed and the existing 69 kV conductors will be installed on the new 230 kV poles along with the new 230 kV conductors. This configuration will allow the use of the existing 69 kV transmission line right-of-way and preclude the need for additional right-of-way land acquisition.

The proposed location of the new switching station will be in southern Calvert County, possibly near Lusby, Maryland, along the existing 69 kV transmission line right-of-way. The site is anticipated to be approximately 25 acres to accommodate the switching station equipment and a buffer. Switching station sites will be further assessed in the Environmental Assessment.

The Patuxent River crossing will be approximately two miles, in the vicinity of the existing 69 kV underground transmission line, near the Thomas Johnson Bridge. Alternative crossing locations as well as construction alternatives were considered in order to improve maintenance capabilities, mitigate environmental impact, and reduce proposal costs. Alternatives include (1) installation of a submarine cable jetted into the bottom of the Patuxent River, and (2) attaching the 230 kV underground cable circuit to the existing bridge or a future bridge planned near the existing Thomas Johnson Bridge. Construction of the proposal is anticipated for completion in 2015.

Government agencies, private organizations, and the public are invited to participate in the planning and analysis of the proposed project. Representatives from USDA Rural Development and Southern Maryland Electric Cooperative will be available at the scoping meeting to discuss the environmental review process, describe the proposal, answer questions, and receive comments. Comments regarding the proposed action may be submitted (orally or in writing) at the public scoping meeting or in writing by October 11, 2008 at the USDA Rural Development address provided in this notice.

From information provided in the Electric Alternatives Evaluation and Macro Corridor Study Report, from government agencies, private organizations, and the public, Southern Maryland Electric Cooperative will prepare an environmental analysis to be submitted to USDA Rural Development for review. USDA Rural Development will review the environmental analysis and determine the significance of the impacts of the proposal. If accepted, the document will be adopted as the environmental assessment (EA) for the proposal. USDA Rural Development's EA would be available for review and comment for 30 days. Should the USDA Rural Development determine, based on the EA for the proposal, that impacts associated with the construction and operation of the proposal would not have a significant environmental impact, it will prepare a finding of no significant impact (FONSI). Public notification of a FONSI would be published in the Federal Register and in newspapers with circulation in the proposal area.

Any final action by USDA Rural Development related to the proposal would be subject to, and contingent upon, compliance with environmental review requirements as prescribed by the USDA Rural Development' s environmental policies and procedures (7 CFR 1794).

Dated: August 22, 2008.
Mark S. Plank,
Director, Engineering and Environmental Staff, USDA/Rural Development/Utilities Programs.

[FR Doc. E8-19792 Filed 8-26-08; 8:45 am]

BILLING CODE 3410-15-P